TENNESSEE VALLEY AUTHORITY

Agency Information Collection Activities: Submission for OMB Review; Comment Request

AGENCY: Tennessee Valley Authority (TVA).

ACTION: 30-Day notice of submission of information collection approval request to OMB.

SUMMARY: Tennessee Valley Authority (TVA) provides notice of submission of this information clearance request (ICR) to the Office of Management and Budget (OMB) for review and approval in accordance with the Paperwork Reduction Act of 1995 (PRA). The general public and other federal agencies are invited to comment. TVA previously published a 60-day notice of the proposed information collection for public review (May 18, 2022) and no comments were received.

DATES: The OMB will consider all written comments received on or before August 26, 2022.

ADDRESSES: Written comments for the proposed information collection should be sent within 30 days of publication of this notice to www.reginfo.gov/public/do/PRAMain. Find this particular information collection by selecting “Currently under 30-day Review—Open for Public Comments” or by using the search function.

SUPPLEMENTARY INFORMATION:

Type of Request: New collection.

Title of Information Collection: LPC FIRST Financial Reporting.

Frequency of Use: Monthly and Annually.

Type of Affected Public: Business or Local Government.

Small Businesses or Organizations Affected: Yes.

Federal Budget Functional Category Code: 455.

Estimated Number of Annual Responses: 153.

Estimated Total Annual Burden Hours: 2693.

Estimated Average Burden Hours per Response: 14 hours (Annual Report); 0.3 hours (Monthly Report).

Need for and Use of Information: TVA, serving in its regulatory capacity, uses this financial and statistical information to monitor each distributor's current financial position and to forecast requirements for reasonable levels of resources for renewals, replacements, and contingencies. The data from this information collection is used by TVA organizations (Regulatory Assurance, Commercial Energy Solutions, Treasury and Risk, Regional Relations and Transmission and Power Supply) and the TVA Board of Directors to assist in making management decisions concerning electric power rates, financing the TVA power generating and transmission system, and other long-term plans. If this information collection is not conducted, TVA would be severely hampered in fulfilling its responsibilities to Congress under Section 11 of the TVA Act of 1933 to “permit domestic and rural use [of electricity] at the lowest possible rates.” TVA has deployed the new Financial Information & Regulatory System Tool (FIRST) to streamline data collection and reduce the burden on the public.

Rebecca L. Coffey,
Agency Records Officer.

[FR Doc. 2022-16030 Filed 7-26-22; 8:45 am]

BILLING CODE 8120-08-P